DEPARTMENT OF ENERGY

Federal Energy Regulatory Commission

[Project No. 14628-001]

Minneapolis Leased Housing Associates IV Limited Partnership; Notice of Application Tendered for Filing With the Commission

Take notice that the following hydroelectric application has been filed with the Commission and is available for public inspection.

a. Type of Application: Minor License.

b. Project No.: 14628-001.

c. Date filed: March 20, 2015.

d. Applicant: Minneapolis Leased Housing Associates IV, Limited Partnership (Minneapolis Housing Associates).

e. Name of Project: A-Mill Artist Lofts Hydroelectric Project (A-Mill Project).

f. Location: On the Mississippi River, in the City of Minneapolis, Hennepin County, Minnesota. No federal lands are occupied by the project works or located within the project boundary.

g. Filed Pursuant to: Federal Power Act 16 U.S.C. 791(a)-825(r).

h. Applicant Contact: Owen Metz, 2905 Northwest Blvd., Suite 150, Plymouth, MN 55441; (763) 354-5618; email ometz@dominiuminc.com.

i. FERC Contact: Shana Murray at (202) 502-8333; or email at shana.murray@ferc.gov.

j. The application is not ready for environmental analysis at this time.

k. The A-Mill Project consists of: (1) Removal of an existing concrete bulkhead blocking the existing intake structure; (2) an existing headrace tunnel rehabilitated and sleeved with a new 616-foot-long, 5-foot-diameter steel penstock; (3) a new vertical steel pipe installed in the existing downstream drop-shaft; (4) a new 600-kilowatt turbine generator; (5) a new 6-foot-wide by 4-foot-tall concrete outlet structure at the existing downstream tailrace; and (6) appurtenant facilities. The average annual generation is estimated to be 3,400 megawatt-hours.

l. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

m. Procedural schedule: The application will be processed according to the following preliminary Hydro Licensing Schedule. Revisions to the schedule will be made as appropriate.

Issue Notice of Acceptance: April 2015.

Issue notice soliciting final terms and conditions: May 2015.

Commission issues EA: July 2015.

Dated: March 31, 2015.
Kimberly D. Bose,
Secretary.

[FR Doc. 2015-07797 Filed 4-3-15; 8:45 am]

BILLING CODE 6717-01-P